FEDERAL COMMUNICATIONS COMMISSION

47 CFR Part 73

[DA 01-2376; MM Docket No. 01-291; RM-10301; MM Docket No. 01-292; RM-10302; MM Docket No. 01-293; RM-10303; MM Docket No. 01-294; RM-10304; MM Docket No. 01-295; RM-10305]

Radio Broadcasting Services; Cherokee; OK; Ballinger, TX; Crowell, TX; Eldorado, TX; and Jayton, TX

AGENCY: Federal Communications Commission.

ACTION: Proposed rule.

SUMMARY: This document proposes new allotments to Cherokee, OK; Ballinger, TX; Crowell, TX; Eldorado, TX and Jayton, TX. The Commission requests comments on a petition filed by Maurice Salsa, proposing the allotment of Channel 237C2 at Cherokee, OK, as that community's first local aural transmission service. Channel 237C2 can be allotted to Cherokee at a restricted site located 23.9 kilometers southwest of the community, utilizing coordinates 36-39-27 NL and 98-35-45 WL. See Supplementary Information, infra.

DATES: Comments must be filed on or before December 3, 2001, and reply comments on or before December 18, 2001.

ADDRESSES: Secretary, Federal Communications Commission, Washington, DC 20554. In addition to filing comments with the FCC, interested parties should serve the petitioners, as follows: Maurice Salsa, 5616 Evergreen Valley Drive, Kingwood, TX 77345 (petitioner for Cherokee, OK); Jeraldine Anderson, 1702 Cypress Drive, Irving, TX 75061 (petitioner for Ballinger, TX; Crowell, TX; and Eldorado, TX); and Linda Crawford, 3500 Maple Ave., #1320, Dallas, TX 75219 (petitioner for Jayton, TX).

FOR FURTHER INFORMATION CONTACT: Nancy Joyner, Mass Media Bureau, (202) 418-2180.

SUPPLEMENTARY INFORMATION: This is a synopsis of the Commission's Notice of Proposed Rule Making, MM Docket No. 01-291; MM Docket No. 01-292; MM Docket No. 01-293; MM Docket No. 01-294; and MM Docket No. 01-295, adopted October 3, 2001, and released October 12, 2001. The full text of this Commission decision is available for inspection and copying during normal business hours in the FCC's Reference Information Center (Room CY-A257), 445 Twelfth Street, SW., Washington, DC. The complete text of this decision may also be purchased from the Commission's copy contractor, Qualtex International, Portals II, 445 12th Street, SW., Room CY-B402, Washington, DC 20554, telephone (202) 863-2893.

In addition to the above, the Commission requests comments on a petition filed by Jeraldine Anderson proposing the allotment of Channel 238A at Ballinger, Texas, as that community's second local commercial FM service. Channel 238A requires a site restriction 12.8 kilometers southeast of the community, utilizing coordinates 31-38-03 NL and 99-53-13 WL. Additionally, as Ballinger, Texas, is located within 320 kilometers of the U.S.-Mexico border, concurrence of the Mexican government will be requested for this allotment.

The Commission further requests comments on a petition filed by Jeraldine Anderson proposing the allotment of Channel 250C3 at Crowell, Texas, as that community's potential second local FM transmission service. Channel 250C3 requires a site restriction 3.1 kilometers southwest of the community, utilizing coordinates 33-57-54 NL and 99-44-59 WL.

The Commission further requests comments on a petition filed by Jeraldine Anderson proposing the allotment of Channel 293A at Eldorado, Texas, as an additional local commercial FM transmission service at that community. Channel 293A requires a site restriction 1.3 kilometers southwest of the community, utilizing coordinates 30-51-14 NL; 100-36-43 WL. Additionally, as Eldorado is located within 320 kilometers of the U.S.-Mexico border, concurrence of the Mexican government will be requested for this allotment.

The Commission further requests comments on a petition filed by Linda Crawford proposing the allotment of Channel 231A at Jayton, Texas, as that community's first local aural transmission service. Channel 231A can be allotted to Jayton at city reference coordinates 33-14-53 NL and 100-34-24 WL.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio broadcasting.

For the reasons discussed in the preamble, the Federal Communications Commission proposes to amend 47 CFR part 73 as follows:

PART 73—RADIO BROADCAST SERVICES

1. The authority citation for part 73 continues to read as follows:

Authority: 47 U.S.C. §§ 154, 303, 334 and 336.

§ 73.202 [Amended]

2. Section 73.202(b), the Table of FM Allotments under Oklahoma, is amended by adding Cherokee, Channel 237C2.

3. Section 73.202(b), the Table of FM Allotments under Texas, is amended by adding Channel 238A at Ballinger; Crowell, Channel 250C3; Channel 293A at Eldorado; and Jayton, Channel 231A.

Federal Communications Commission.
John A. Karousos,
Chief, Allocations Branch, Policy and Rules Division, Mass Media Bureau.

[FR Doc. 01-26749 Filed 10-23-01; 8:45 am]

BILLING CODE 6712-01-P